DEPARTMENT OF COMMERCE

National Oceanic and Atmospheric Administration

Evaluation of State Coastal Management Program

AGENCY: Office for Coastal Management (OCM), National Ocean Service (NOS), National Oceanic and Atmospheric Administration (NOAA), Department of Commerce (DOC).

ACTION: Notice.

SUMMARY: The National Oceanic and Atmospheric Administration (NOAA), Office for Coastal Management is reopening the public comment period for the performance evaluation of the U.S. Virgin Islands Coastal Management Program that covers the time period of December 2007 to August 2017. The public comment period is being reopened until March 16, 2018 as Hurricane Irma impacted the U.S. Virgin Islands two days before the previous comment period closed and Hurricane Maria subsequently impacted the U.S. Virgin Islands.

DATES: U.S. Virgin Islands Coastal Management Program Evaluation: Written comments must be received on or before March 16, 2018.

ADDRESSES: You may submit comments on the U.S. Virgin Islands Coastal Management Program by submitting written comments. Please direct written comments to Susie Holst, Evaluator, NOAA Office for Coastal Management, 35 Colovos Road, University of New Hampshire, Gregg Hall, Room 142, Durham, New Hampshire 03824, or email comments Susie.Holst@noaa.gov.

FOR FURTHER INFORMATION CONTACT: Susie Holst, Evaluator, NOAA Office for Coastal Management, 35 Colovos Road, University of New Hampshire, Gregg Hall, Room 142, Durham, New Hampshire 03824, (603) 862-1205 or Susie.Holst@noaa.gov. Copies of the previous evaluation findings may be viewed and downloaded on the internet at http://coast.noaa.gov/czm/evaluations. A copy of the evaluation notification letter and most recent progress report may be obtained upon request by contacting the person identified under FOR FURTHER INFORMATION CONTACT.

SUPPLEMENTARY INFORMATION: Section 312 of the Coastal Zone Management Act (CZMA) requires NOAA to conduct periodic evaluations of federally approved state and territorial coastal programs. The process includes one or more public meetings, consideration of written public comments and consultations with interested Federal, state, and local agencies and members of the public. During the evaluation, NOAA will consider the extent to which the state has met the national objectives, adhered to the management program approved by the Secretary of Commerce, and adhered to the terms of financial assistance under the CZMA. When the evaluation is completed, NOAA's Office for Coastal Management will place a notice in the Federal Register announcing the availability of the Final Evaluation Findings.

Dated: January 11, 2018.
Keelin Kuipers,
Acting Deputy Director, Office for Coastal Management, National Ocean Service, National Oceanic and Atmospheric Administration.

(Federal Domestic Assistance Catalog 11.419

Coastal Zone Management Program Administration)

[FR Doc. 2018-01267 Filed 1-23-18; 8:45 am]

BILLING CODE 3510-08-P